DEPARTMENT OF LABOR

Employment and Training Administration

[TA-W-54,166]

Harriet and Henderson Yarns, Inc., Fort Payne Distribution Center, Fort Payne, AL; Notice of Termination of Investigation

Pursuant to section 221 of the Trade Act of 1974, an investigation was initiated on February 4, 2004, in response to a worker petition which was filed on behalf of workers at Harriet and Henderson Yarns, Inc., Fort Payne Distribution Center, Fort Payne, Alabama.

An active certification covering the petitioning group of workers is already in effect (TA-W-53,293B, as amended). Consequently, further investigation in this case would serve no purpose, and the investigation has been terminated.

Signed in Washington, DC this 11th day of February, 2004.
Linda G. Poole,
Certifying Officer, Division of Trade Adjustment Assistance.

[FR Doc. 04-5081 Filed 3-5-04; 8:45 am]

BILLING CODE 4510-30-P